DEPARTMENT OF HEALTH AND HUMAN SERVICES

Health Resources and Services Administration

Statement of Delegation of Authority

Notice is hereby given that I have delegated to the Administrator, Health Resources and Services Administration (HRSA), the authority vested in the Secretary under Section 10502 of the Patient Protection and Affordable Care Act, as amended hereafter, as it pertains to the functions assigned to HRSA. This authority may be redelegated.

This delegation excludes the authority to issue regulations, to establish advisory committees and councils, and appoint their members, and to submit reports to Congress, and shall be exercised in accordance with the Department's applicable policies, procedures, and guidelines.

I hereby affirm and ratify any actions taken by the Administrator, HRSA, or other HRSA officials, which involved the exercise of this authority prior to the effective date of this delegation.

This delegation is effective upon date of signature.

Dated: February 10, 2011.
Kathleen Sebelius,
Secretary.

[FR Doc. 2011-3586 Filed 2-16-11; 8:45 am]

BILLING CODE 4165-15-P